CONSUMER PRODUCT SAFETY COMMISSION

Proposed Collection of Information; Comment Request—Amended Interim Safety Standard for Cellulose Insulation

AGENCY: Consumer Product Safety Commission.

ACTION: Notice.

SUMMARY: As required by the Paperwork Reduction Act of 1995 (44 U.S.C. Chapter 35), the Consumer Product Safety Commission requests comments on a proposed extension of approval of a collection of information from manufacturers and importers of cellulose insulation. The collection of information is in regulations implementing the Amended Interim Safety Standard for Cellulose Insulation (16 CFR part 1209). These regulations establish testing and record keeping requirements for manufacturers and importers of cellulose insulation subject to the amended interim standard. The Commission will consider all comments received in response to this notice before requesting an extension of approval of this collection of information from the Office of Management and Budget.

DATES: Written comments must be received by the Office of the Secretary not later than May 3, 2004.

ADDRESSES: Written comments should be mailed to the Office of the Secretary, Consumer Product Safety Commission, Washington, DC 20207, or delivered to that office, room 502, 4330 East-West Highway, Bethesda, Maryland, 20814. Alternatively, comments may be filed by telefacsimile to (301) 504-0127 or by e-mail to cpsc-os@cpsc.gov. Comments should be captioned “Cellulose Insulation.”

FOR FURTHER INFORMATION CONTACT: For information about the proposed extension of approval of the collection of information, or to obtain a copy of 16 CFR part 1209, call or write Linda L. Glatz, Office of Planning and Evaluation, Consumer Product Safety Commission, Washington, DC 20207; telephone (301) 504-7671, or by e-mail to lglatz@cpsc.gov.

SUPPLEMENTARY INFORMATION: Cellulose insulation is a form of thermal insulation used in houses and other residential buildings. Most cellulose insulation is manufactured by shredding and grinding used newsprint and adding fire-retardant chemicals.

In 1978, Congress passed the Emergency Interim Consumer Product Safety Standard Act of 1978 (Pub. L. 95-319, 92 Stat. 386). That legislation added section 35 to the Consumer Product Safety Act (15 U.S.C. 2082). Section 35 directs the Commission to issue an interim safety standard incorporating the provisions for flammability and corrosiveness of cellulose insulation set forth in a purchasing specification issued by the General Services Administration (GSA). Section 35 provides further that the interim safety standard should be amended to incorporate the requirements for flammability and corrosiveness of cellulose insulation in each revision to the GSA purchasing specification.

In 1978, the Commission issued the Interim Safety Standard for Cellulose Insulation. In 1979, the Commission amended the standard to incorporate the latest revision of the GSA purchasing specification. The Amended Interim Safety Standard for Cellulose Insulation is codified at 16 CFR part 1209.

The amended interim standard contains performance tests to assure that cellulose insulation will resist ignition from sustained heat sources, such as smoldering cigarettes or recessed light fixtures, and from small open-flame sources, such as matches or candles. The standard also contains tests to assure that cellulose insulation will not be corrosive to copper, aluminum, or steel if exposed to water.

Certification regulations implementing the standard require manufacturers, importers, and private labelers of cellulose insulation subject to the standard to perform tests to demonstrate that those products meet the requirements of the standard, and to maintain records of those tests. The certification regulations are codified at 16 CFR part 1209, subpart B.

The Commission uses the information compiled and maintained by manufacturers, importers, and private labelers of cellulose insulation subject to the standard to help protect the public from risks of injury or death associated with fires involving cellulose insulation. More specifically, this information helps the Commission determine whether cellulose insulation subject to the standard complies with all applicable requirements. The Commission also uses this information to obtain corrective actions if cellulose insulation fails to comply with the standard in a manner that creates a substantial risk of injury to the public.

The Office of Management and Budget (OMB) approved the collection of information in the certification regulations under control number 3041-0022. OMB's most recent extension of approval will expire on May 31, 2004. The Commission now proposes to request an extension of approval without change for the collection of information in the certification regulations.

A. Estimated Burden

The Commission staff estimates that not more than 45 firms manufacture or import cellulose insulation subject to the amended interim standard. The Commission staff estimates that the certification regulations will impose an average annual burden of about 1,320 hours on each of those firms. That burden will result from conducting the testing required by the regulations and maintaining records of the results of that testing. The total annual burden imposed by the regulations on manufacturers and importers of cellulose insulation is approximately 59,400 hours.

The hourly wage for the testing and recordkeeping required to conduct the testing and maintain records required by the regulations is about $24.48, for an estimated annual cost to the industry of approximately $1,454,000.

B. Request for Comments

The Commission solicits written comments from all interested persons about the proposed extension of approval for this collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: February 26, 2004.
Todd A. Stevenson,
Secretary, Consumer Product Safety Commission.

[FR Doc. 04-4696 Filed 3-2-04; 8:45 am]

BILLING CODE 6355-01-P